INTERNATIONAL TRADE COMMISSION

[Investigation Nos. 701-TA-685 and 731-TA-1599-1606 (Final)]

Tin Mill Products From Canada, China, Germany, Netherlands, South Korea, Taiwan, Turkey, and the United Kingdom; Revised Schedule for the Subject Investigations

AGENCY: United States International Trade Commission.

ACTION: Notice.

DATES: September 12, 2023.

FOR FURTHER INFORMATION CONTACT: Caitlyn Hendricks (202-205-2058), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On September 1, 2023, the Commission established a schedule for the conduct of the final phase of the subject investigations (88 FR 60484, September 1, 2023). Subsequently, the Department of Commerce (“Commerce”) extended the date for its final determination in the China investigation from October 30, 2023 to January 4, 2024 (88 FR 62542, September 12, 2023). The Commission, therefore, is revising its schedule to conform with Commerce's new schedule. The final determinations for Canada, Germany, the Netherlands, South Korea, Taiwan, Turkey, and the United Kingdom were previously extended (88 FR 57078, 88 FR 57081, 88 FR 57084, 88 FR 57087, 88 FR 57090, 88 FR 57093, 88 FR 57096, 88 FR 57099, August 22, 2023).

The Commission's revised dates in the schedule are as follows: requests to appear at the hearing must be filed with the Secretary to the Commission not later than 5:15 p.m. on December 20, 2023; the prehearing conference will be held at the U.S. International Trade Commission Building on December 29, 2023, if deemed necessary; the prehearing staff report will be placed in the nonpublic record on December 11, 2023; the deadline for filing prehearing briefs is 5:15 p.m. on December 19, 2023; the hearing will be held at the U.S. International Trade Commission Building at 9:30 a.m. on January 4, 2024; the deadline for filing posthearing briefs is 5:15 p.m. on January 11, 2024; the Commission will make its final release of information on January 31, 2024; and final party comments are due on 5:15 p.m. on February 2, 2024.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: September 18, 2023.
Sharon Bellamy,
Supervisory Hearings and Information Officer.

[FR Doc. 2023-20497 Filed 9-20-23; 8:45 am]

BILLING CODE 7020-02-P